DEPARTMENT OF AGRICULTURE

Animal and Plant Health Inspection Service

[Docket No. APHIS-2019-0063]

Notice of Request for Reinstatement of an Information Collection; National Animal Health Monitoring System; Health Management on U.S. Feedlots 2020 Study

AGENCY: Animal and Plant Health Inspection Service, USDA.

ACTION: Reinstatement of an information collection; comment request.

SUMMARY: In accordance with the Paperwork Reduction Act of 1995, this notice announces the Animal and Plant Health Inspection Service's intention to request the reinstatement of an information collection to conduct the National Animal Health Monitoring System Health Management on U.S. Feedlots 2020 Study.

DATES: We will consider all comments that we receive on or before December 9, 2019.

ADDRESSES: You may submit comments by either of the following methods:

• Federal eRulemaking Portal: Go to http://www.regulations.gov/#!docketDetail;D=APHIS-2019-0063.

• Postal Mail/Commercial Delivery: Send your comment to Docket No. APHIS-2019-0063, Regulatory Analysis and Development, PPD, APHIS, Station 3A-03.8, 4700 River Road Unit 118, Riverdale, MD 20737-1238.

Supporting documents and any comments we receive on this docket may be viewed at http://www.regulations.gov/#!docketDetail;D=APHIS-2019-0063 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the NAHMS Health Management on U.S. Feedlots 2020 Study, contact Mr. Bill Kelley, Program Analyst, Center for Epidemiology and Animal Health, Veterinary Services, 2150 Centre Avenue, Building B, Fort Collins, CO 80526; (970) 494-7270. For more detailed information on the information collection, contact Mr. Joseph Moxey, APHIS' Information Collection Coordinator, at (301) 851-2483.

SUPPLEMENTARY INFORMATION:

Title: National Animal Health Monitoring System; Health Management on U.S. Feedlots 2020 Study.

OMB Control Number: 0579-0079.

Type of Request: Reinstatement of an information collection.

Abstract: Under the Animal Health Protection Act (7 U.S.C. 8301 et seq.), the Secretary of Agriculture is authorized to protect the health of the livestock, poultry, and aquaculture populations in the United States by preventing the introduction and interstate spread of serious diseases and pests of livestock and for eradicating such diseases from the United States when feasible. This authority has been designated to the Animal and Plant Health Inspection Service (APHIS).

In connection with this mission, APHIS operates the National Animal Health Monitoring System (NAHMS), which collects, on a national basis, statistically valid and scientifically sound data on the prevalence and economic importance of livestock, poultry, and aquaculture disease risk factors.

NAHMS studies have evolved into a collaborative industry and government initiative to help determine the most effective means of preventing and controlling diseases of livestock. APHIS is the only agency responsible for collecting data on livestock health. Participation in any NAHMS study is voluntary, and data are confidential.

APHIS plans to conduct the Health Management on U.S. Feedlots 2020 Study as part of an ongoing series of NAHMS studies on the U.S. livestock population. This study will support the following study objectives:

• Describe health management practices on cattle feedlots;

• Estimate the prevalence of producer-reported common feedlot cattle diseases;

• Describe antimicrobial use and stewardship practices;

• Describe attitudes and perceptions of feedlot producers about antimicrobial use, antimicrobial stewardship, and the Veterinary Feed Directive; and

• Describe trends in feedlot cattle health management practices and producer-reported common feedlot cattle diseases.

The study will consist of two phases. In Phase I, the National Agricultural Statistics Service (NASS) will contact selected feedlot producers to collect operational level data and consent to be contacted for the next phase of the study. NASS data collectors will contact producers by telephone to schedule a personal interview to complete the initial questionnaire with the help of an enumerator. The enumerators will also attempt to obtain consent from the producer to be contacted for participation in Phase II of the study. In Phase II, APHIS data collectors will contact consenting respondents to administer the second questionnaire via personal interview.

APHIS will analyze the information collected in both phases of this study to predict or detect national and regional trends of feedlot cattle health; update national and regional production measures for producer, veterinary, and industry reference; and provide factual information on antimicrobial use and stewardship.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.47 hours per response.

Respondents: Feedlot producers.

Estimated annual number of respondents: 5,413.

Estimated annual number of responses per respondent: 1.7.

Estimated annual number of responses: 9,016.

Estimated total annual burden on respondents: 4,202 hours. (Due to averaging, the total annual burden hours may not equal the product of the annual number of responses multiplied by the reporting burden per response.)

All responses to this notice will be summarized and included in the request for OMB approval. All comments will also become a matter of public record.

Done in Washington, DC, this 2nd day of October 2019.
Kevin Shea,
Administrator, Animal and Plant Health Inspection Service.

[FR Doc. 2019-21924 Filed 10-7-19; 8:45 am]

BILLING CODE 3410-34-P